DEPARTMENT OF TRANSPORTATION

Federal Aviation Administration

14 CFR Part 97

[Docket No. 31609; Amdt. No. 4169]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 12, 2025. The compliance date for each SIAP, associated Takeoff Minimums, and ODP is specified in the amendatory provisions.

The incorporation by reference of certain publications listed in the regulations is approved by the Director of the Federal Register as of June 12, 2025.

ADDRESSES: Availability of matters incorporated by reference in the amendment is as follows:

For Examination

1. U.S. Department of Transportation, Docket Ops-M30. 1200 New Jersey Avenue SE, West Bldg., Ground Floor, Washington, DC, 20590-0001.

2. The FAA Air Traffic Organization Service Area in which the affected airport is located;

3. The office of Aeronautical Information Services, 6500 South MacArthur Blvd., Oklahoma City, OK 73169 or,

4. The National Archives and Records Administration (NARA). For information on the availability of this material at NARA, visit www.archives.gov/federal-register/cfr/ibr-locations or email fr.inspection@nara.gov.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Romana B. Wolf, Manager, Flight Procedures and Airspace Group, Flight Technologies and Procedures Division, Office of Safety Standards, Flight Standards Service, Aviation Safety, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR 97.20. The applicable FAA Forms are 8260-3, 8260-4, 8260-5, 8260-15A, 8260-15B, when required by an entry on 8260-15A, and 8260-15C.

The large number of SIAPs, Takeoff Minimums and ODPs, their complex nature, and the need for a special format make publication in the Federal Register expensive and impractical. Further, pilots do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air traffic control, Airports, Incorporation by reference, Navigation (air).

Issued in Washington, DC, on June 6, 2025.
Romana B. Wolf,
Manager, Flight Procedures and Airspace Group, Flight Technologies and Procedures Division, Office of Safety Standards, Flight Standards Service, Aviation Safety, Federal Aviation Administration.

Adoption of the Amendment

Accordingly, pursuant to the authority delegated to me, 14 CFR part 97 is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 7 August 2025

Golovin, AK, PAGL, NOME TWO, Graphic DP, CANCELED

Golovin, AK, GLV/PAGL, Takeoff Minimums and Obstacle DP, Amdt 2

Point Lay, AK, PIZ/PPIZ, NDB RWY 5, Amdt 1A, CANCELED

Point Lay, AK, PIZ/PPIZ, RNAV (GPS) RWY 6, Amdt 2

Point Lay, AK, PIZ/PPIZ, RNAV (GPS) RWY 24, Amdt 2

Auburn, AL, AUO, ILS OR LOC RWY 36, Amdt 4A

Auburn, AL, AUO, RNAV (GPS) RWY 11, Amdt 3

Ontario, CA, ONT, ILS OR LOC RWY 8L, Amdt 10

Gainesville, FL, GNV, ILS OR LOC RWY 29, Amdt 14

Gainesville, FL, GNV, RNAV (GPS) RWY 29, Amdt 2

Mount Sterling, IL, I63, RNAV (GPS) RWY 18, Amdt 1

Mount Sterling, IL, I63, RNAV (GPS) RWY 36, Amdt 1

Washington, IN, DCY, RNAV (GPS) RWY 36, Orig

Pikeville, KY, PBX, ILS OR LOC RWY 27, Amdt 2A

Pikeville, KY, PBX, RNAV (GPS) RWY 9, Amdt 2A

Pikeville, KY, PBX, RNAV (GPS) RWY 27, Amdt 2A

Salisbury, MD, SBY, RNAV (GPS) RWY 5, Amdt 2

Salisbury, MD, SBY, RNAV (GPS) RWY 14, Amdt 2

Salisbury, MD, SBY, RNAV (GPS) RWY 23, Amdt 1C

Salisbury, MD, SBY, VOR RWY 5, Amdt 10A, CANCELED

Scobey, MT, 9S2, RNAV (GPS) RWY 12, Amdt 1

Crosby, ND, D50, RNAV (GPS) RWY 31, Amdt 1

Crosby, ND, D50, RNAV (GPS)-A, Orig

Crosby, ND, D50, Takeoff Minimums and Obstacle DP, Amdt 1

Scribner, NE, SCB, RNAV (GPS) RWY 35, Amdt 1C

Scribner, NE, SCB, Takeoff Minimums and Obstacle DP, Orig-A

Scribner, NE, SCB, VOR RWY 35, Amdt 2D

Urbana, OH, I74, VOR-A, Amdt 6, CANCELED

Burns Flat, OK, CSM, ILS OR LOC RWY 17R, Amdt 9

Highmore, SD, 9D0, RNAV (GPS) RWY 13, Orig-B

Highmore, SD, 9D0, RNAV (GPS) RWY 31, Orig-A

Richland, WA, RLD, LOC RWY 19, Amdt 10

Richland, WA, RLD, RNAV (GPS) RWY 26, Amdt 3

Richland, WA, RLD, RNAV (GPS) Y RWY 19, Amdt 3

Richland, WA, RLD, RNAV (GPS) Z RWY 19, Amdt 2

Martinsburg, WV, MRB, ILS OR LOC RWY 26, Amdt 9

Hulett, WY, W43, Takeoff Minimums and Obstacle DP, Orig-A

[FR Doc. 2025-10714 Filed 6-11-25; 8:45 am]

BILLING CODE 4910-13-P